DEPARTMENT OF AGRICULTURE

Food and Nutrition Service

Agency Information Collection Activities: Proposed Collection; Comment Request—Child and Adult Care Food Program: Permanent Agreements for Day Care Home Providers

AGENCY: Food and Nutrition Service, USDA.

ACTION: Notice.

SUMMARY: In accordance with the Paperwork Reduction Act of 1995, this notice announces the Food and Nutrition Service (FNS) intention to request Office of Management and Budget (OMB) review of the information collection related to the Child and Adult Care Food Program, including adjustments to be made as a result of the final rule entitled Child and Adult Care Food Program: Permanent Agreements for Day Care Home Providers.

DATES: To be assured of consideration, comments must be received by July 5, 2005.

ADDRESSES: Send comments and requests for copies of this information collection to: Mr. Keith Churchill, Policy and Program Development Branch, Child Nutrition Division, Food and Nutrition Service, U.S. Department of Agriculture, 3101 Park Center Drive, Room 636, Alexandria, Virginia 22302. Comments will also be accepted via E-Mail submission if sent to cndproposal@fns.usda.gov.

Comments are invited on (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this Notice will be summarized and included in the request for OMB approval, and will become a matter of public record.

FOR FURTHER INFORMATION CONTACT: Mr. Keith Churchill, (703) 305-2590.

SUPPLEMENTARY INFORMATION: Title: Child and Adult Care Food Program Regulations.

OMB Number: 0584-0055.

Expiration Date: June 30, 2007.

Type of Request: Revision of a currently approved collection.

Abstract: The Rule amends the Child and Adult Care Food Program (CACFP) regulations to implement section 119(d)(1) of the Child Nutrition and WIC Reauthorization Act of 2004, Public Law 108-265, which stipulates that the agreement between a sponsoring organization and family or group day care home participating in the CACFP is permanent and remains in effect until terminated by either party. This change, which was effective on June 30, 2004, will reduce the administrative workload and paperwork burden of sponsoring organizations, by eliminating the periodic renewal of agreements with their family or group day care homes.

Estimate of Burden: There are currently 966 day care home sponsors in CACFP affected by this .083 reduction in burden hours. The provisions of 7 CFR 226.15(e) reduces the burden for the 966 sponsors of family day care homes. However, the provisions of 7 CFR 226.15(e) do not apply to the remaining 19,615 independent centers and sponsors of day care centers. Those 19,615 centers and sponsors still incur 6.083 hours of burden. Therefore, there is a decrease of 80 hours in the annual burden.

Number of Respondents: 2,980,467 respondents.

Average Number of Responses per Respondent: 2.21 response/respondent.

Total Annual Responses: 6,614,371 responses.

Estimated Time per Response: .87 hour.

Total Annual Burden on Respondents: 5,781,950 burden hours.

Dated: April 26, 2005.
Roberto Salazar,
Administrator, Food and Nutrition Service.

[FR Doc. 05-8909 Filed 5-4-05; 8:45 am]

BILLING CODE 3410-30-P